DEPARTMENT OF TRANSPORTATION

Federal Aviation Administration

14 CFR Part 71

[Docket No. FAA-2014-0501; Airspace Docket No. 14-AGL-11]

RIN 2120-AA66

Amendment of Air Traffic Service (ATS) Routes in the Vicinity of Grand Rapids, MI

AGENCY: Federal Aviation Administration (FAA), DOT.

ACTION: Final rule; technical amendment.

SUMMARY: This action amends the legal descriptions of Jet Route J-34 and VHF omnidirectional range (VOR) Federal airways V-274, V-285, and V-510, in the vicinity of Grand Rapids, MI. The FAA is taking this action because the name of the Grand Rapids, MI, VOR/Distance Measure Equipment (VOR/DME) facility, which is included in the descriptions of the above routes, is being changed to the Victory VOR/DME.

DATES: Effective Dates: 0901 UTC, November 13, 2014. The Director of the Federal Register approves this incorporation by reference action under 1 CFR part 51, subject to the annual revision of FAA Order 7400.9 and publication of conforming amendments.

ADDRESSES: FAA Order 7400.9X, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Background

The Gerald R. Ford International Airport, Grand Rapids, MI, is located 5.7 miles north of the Grand Rapids VOR/DME. The airport and the VOR/DME have the same three-letter identifier (GRR) which has caused some safety concerns. In addition to the airport and the VOR/DME having the same identifier, pilots and air traffic controllers routinely refer to both as “Grand Rapids.” Cases have been observed where GPS-equipped aircraft have navigated via the GRR airport rather than the GRR VOR/DME as expected by air traffic control (ATC), or vice versa, as well as ATC instructions issued relative to the airport or VOR/DME having been mistaken by pilots as relative to the other. To preclude this in the future, the name of the VOR/DME facility is being changed to Victory VOR/DME with the new three-letter identifier “VIO.”

The Rule

This action amends Title 14 Code of Federal Regulations (14 CFR) part 71 by amending the legal descriptions of Jet Route J-34 and VOR Federal airways V-274, V-285, and V-510 to reflect the name change of one of the navigation aids used to define the routes. To eliminate confusion, and potential flight safety issues, the Grand Rapids VOR/DME is renamed the Victory VOR/DME and is assigned a new three-letter identifier (VIO). The VOR/DME name change does not alter the current alignment of the affected routes.

Since this action merely involves editorial changes in the legal descriptions of the above ATS routes, and does not involve a change in the dimensions or operating requirements of the affected routes, I find that notice and public procedures under 5 U.S.C. 553(b) are unnecessary.

The FAA has determined that this regulation only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it revises the legal descriptions of jet routes and VOR Federal airways in the vicinity of Grand Rapids, MI, to eliminate pilot confusion.

Jet Routes are published in paragraph 2004 and Domestic VOR Federal airways are published in paragraph 6010(a), respectively, of FAA Order 7400.9X, dated August 7, 2013, and effective September 15, 2013, which is incorporated by reference in 14 CFR 71.1. The domestic Jet Routes and VOR Federal airways listed in this document will be published subsequently in the Order.

Environmental Review

The FAA has determined that this action qualifies for categorical exclusion under the National Environmental Policy Act in accordance with FAA Order 1050.1E, Environmental Impacts: Policies and Procedures, paragraph 311a. This airspace action consists of editorial changes only and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013, is amended as follows:

Paragraph 2004. Jet Routes

* * * * *

J-34 [Amended]

From Hoquiam, WA; Olympia, WA; Moses Lake, WA; Helena, MT; Billings, MT; Dupree, SD; Redwood Falls, MN; Nodine, MN; Dells, WI; Badger, WI; Victory, MI; Carleton, MI; Dryer, OH; Bellaire, OH; INT Bellaire 133° and Kessel, WV, 276° radials; Kessel; to INT Kessel 097° and Armel, VA, 292° radials.

Paragraph 6010(a)—Domestic VOR Federal Airways

* * * * *

V-274 [Amended]

From Pullman, MI; Victory, MI; to Saginaw, MI.

* * * * *

V-285 [Amended]

From Brickyard, IN; Kokomo, IN; Goshen, IN; INT Goshen 038° and Kalamazoo, MI, 191° radials; Kalamazoo; INT Kalamazoo 014° and Victory, MI, 167° radials; Victory; White Cloud, MI; Manistee, MI; to Traverse City, MI.

* * * * *

V-510 [Amended]

From Dickinson, ND; INT Dickinson 078° and Bismarck, ND, 290° radials, 28 miles, 38 MSL, Bismarck; INT Bismarck 067° and Jamestown, ND, 279° radials, 14 miles, 65 miles, 34 MSL, Jamestown; Fargo, ND; INT Fargo 110° and Alexandria, MN, 321° radials; Alexandria; INT Alexandria 110° and Gopher, MN, 321° radials; Gopher; INT Gopher 109° and Nodine, MN, 328° radials; Nodine; to Dells, WI. From Oshkosh, WI; Falls, WI; INT Falls 114° and Muskegon, MI, 295° radials; Muskegon; INT Muskegon 154° and Victory, MI, 284° radials, Victory (7 miles wide, 3 miles N and 4 miles S of the centerline); Victory; to Lansing, MI. From Buffalo, NY; INT Buffalo 045° and Rochester, NY, 273° radials; to Rochester.

Issued in Washington, DC, on August 7, 2014.
Gary A. Norek,
Manager, Airspace Policy and Regulations Group.

[FR Doc. 2014-19208 Filed 8-13-14; 8:45 am]

BILLING CODE 4910-13-P